ENVIRONMENTAL PROTECTION AGENCY

[EPA-HQ-RCRA-2011-0983; FRL-9518-7]

Agency Information Collection Activities; Submission to OMB for Review and Approval; Comment Request; Criteria for Classification of Solid Waste Disposal Facilities and Practices (Renewal)

AGENCY: Environmental Protection Agency (EPA).

ACTION: Notice.

SUMMARY: In compliance with the Paperwork Reduction Act (PRA)(44 U.S.C. 3501 et seq.), this document announces that an Information Collection Request (ICR) has been forwarded to the Office of Management and Budget (OMB) for review and approval. This is a request to renew an existing approved collection. The ICR, which is abstracted below, describes the nature of the information collection and its estimated burden and cost.

DATES: Additional comments may be submitted on or before July 30, 2012.

ADDRESSES: Submit your comments, referencing Docket ID No. EPA-HQ-RCRA-2011-0983, to (1) EPA online using www.regulations.gov (our preferred method), by email to rcra-docket@epa.gov or by mail to: RCRA Docket (28221T), U.S. Environmental Protection Agency, 1200 Pennsylvania Ave. NW., Washington, DC 20460, and (2) OMB by mail to: Office of Information and Regulatory Affairs, Office of Management and Budget (OMB), Attention: Desk Officer for EPA, 725 17th Street NW., Washington, DC 20503.

FOR FURTHER INFORMATION CONTACT: Craig Dufficy, Office of Resource Conservation and Recovery, (5304P), Environmental Protection Agency, 1200 Pennsylvania Ave. NW., Washington, DC 20460; telephone number: 703-308-9037; fax number: 703-308-8686; email address: Dufficy.Craig@epa.gov.

SUPPLEMENTARY INFORMATION: EPA has submitted the following ICR to OMB for review and approval according to the procedures prescribed in 5 CFR 1320.12. On February 28, 2012 (77 FR 12048), EPA sought comments on this ICR pursuant to 5 CFR 1320.8(d). EPA received no comments. Any additional comments on this ICR should be submitted to EPA and OMB within 30 days of this notice.

EPA has established a public docket for this ICR under Docket ID No. EPA-HQ-RCRA-2011-0983, which is available for online viewing at www.regulations.gov, or in person viewing at the Resource Conservation and Recovery Act (RCRA) Docket in the EPA Docket Center (EPA/DC), EPA West, Room 3334, 1301 Constitution Ave. NW., Washington, DC. The EPA/DC Public Reading Room is open from 8:30 a.m. to 4:30 p.m., Monday through Friday, excluding legal holidays. The telephone number for the Reading Room is 202-566-1744, and the telephone number for the RCRA Docket is 202-566-0270.

Use EPA's electronic docket and comment system at www.regulations.gov, to submit or view public comments, access the index listing of the contents of the docket, and to access those documents in the docket that are available electronically. Once in the system, select “docket search,” then key in the docket ID number identified above. Please note that EPA's policy is that public comments, whether submitted electronically or in paper, will be made available for public viewing at www.regulations.gov as EPA receives them and without change, unless the comment contains copyrighted material, confidential business information (CBI), or other information whose public disclosure is restricted by statute. For further information about the electronic docket, go to www.regulations.gov.

Title: Criteria for Classification of Solid Waste Disposal Facilities and Practices (Renewal)

ICR numbers: EPA ICR No. 1745.07, OMB Control No. 2050-0154.

ICR Status: This ICR is scheduled to expire on July 31, 2012. Under OMB regulations, the Agency may continue to conduct or sponsor the collection of information while this submission is pending at OMB. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: In order to effectively implement and enforce final changes to 40 CFR part 257—Subpart B on a State level, owners/operators of construction and demolition waste landfills that receive Conditionally Exempt Small Quantity Generator (CESQG) hazardous wastes will have to comply with the final reporting and recordkeeping requirements. The information collected is used by the States to regulate and ensure that non-municipal non-hazardous waste disposal units that receive CESQG hazardous wastes, and CESQGs, are complying with the final revisions to the part 257, subpart B criteria and the revisions to part 261. This program is implemented by approved States and all information will be reported to the States or kept in an operating record; in unapproved States, the “Criteria for Classification of Solid Waste Disposal Facilities and Practices” (40 CFR part 257) are self implementing, meaning that the owner/operator documents compliance with the Criteria and places the documentation in the operating record. Once established as a non-municipal non-hazardous waste disposal unit, ground-water monitoring is to be conducted throughout the active life of the unit plus 30 years. The only units that will incur burdens under the part 257, subpart B rule continue to be construction and demolition landfills that receive CESQG waste from off-site generators. EPA has reviewed Biocycle trade magazine and has concluded that the number of Construction and Demolition (C&D) landfills has stopped the decline and has remained at the current level of 134. The number of respondents is therefore 134 C&D waste landfills plus 18 States, for a total of 152 respondents.

The Agency assumes 14 new and lateral expansion of existing units will be activated per year accepting CESQG waste subject to Part 257, Subpart B rule. EPA has estimated a one-time recordkeeping requirement for the Floodplains location restriction of 10 hours per unit. There is a one-time reporting burden of two hours per unit. Owners and operators of non-municipal non-hazardous waste disposal units that may receive CESQG wastes may demonstrate (document) that there is no potential for migration of hazardous constituents from the unit. The demonstration is to be based on site-specific data and fate and transport modeling. EPA estimates that no more than 1 owner/operator out of the 14 new facilities will attempt this demonstration. EPA assumes that the required documentation would result in a one-time reporting requirement of 100 hours per unit. One-time burden hours are incurred under this provision for 3 of the 14 new small/arid/remote facilities that are eligible to use alternative ground-water monitoring and choose to upgrade. The Agency assumes that 3 of the total 14 new units will be located in small/arid/remote locations. There is a one-time recordkeeping burden of 10 hours per unit and a one-time reporting burden of two hours per unit. EPA estimates 14 new or lateral expansions of existing construction and demolition landfills will choose to upgrade and will not be eligible to use alternative ground-water monitoring techniques. The Agency assumes the one-time reporting requirement of 20 hours per unit would result for these 14 new or lateral expansions of existing units. EPA estimates the total annual reporting burden for detection monitoring to be 32 hours per year for the 134 existing units and the 14 new or lateral expansions of existing units per year. The annual recordkeeping requirement burden is two hours for each unit. For assessment monitoring, EPA estimates that this rule would impose an annual reporting burden of 32 hours per occurrence per year. For corrective action, EPA estimated an annual reporting burden of 200 hours per year to document progress in clean-up activities. There are annual recordkeeping burdens at §§ 257.27(b), 257.28(c)(4) and 257.28(e)(2). Each of these annual recordkeeping burdens requires two hours per unit, for a total of six hours. EPA estimates that the recordkeeping requirement at § 257.30 to place notifications in the operating record will impose a one-time recordkeeping burden of 10 hours on 1 new or lateral expansion of an existing unit per year.

Burden Statement: The annual public reporting and recordkeeping burden for this collection of information is estimated to average 74 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: Private Solid Waste Disposal Facilities, States.

Estimated Number of Respondents: 152.

Frequency of Response: On occasion.

Estimated Total Annual Hour Burden: 11,220.

Estimated Total Annual Cost: $2,097,810, which includes $520,151 in annualized labor and $1,577,659 in annualized capital or O&M costs.

Changes in the Estimates: There is a change of 1 hour in the total estimated burden currently identified in the OMB Inventory of Approved ICR Burdens. This is due to a constant number of Construction & Demolition landfills and an adjustment due to rounding numbers.

John Moses,
Director, Collection Strategies Division.

[FR Doc. 2012-15864 Filed 6-27-12; 8:45 am]

BILLING CODE 6560-50-P